DEPARTMENT OF AGRICULTURE

Forest Service

Lake Tahoe Basin Management Unit, California, Heavenly Mountain Resort Epic Discovery Project

AGENCY: Lake Tahoe Basin Management Unit, Forest Service, USDA.

ACTION: Notice of intent to prepare a joint Environmental Impact Statement and Initial Study.

SUMMARY: The Epic Discovery Project is intended to enhance summer activities in response to the USDA Forest Service Ski Area Recreational Opportunity Enhancement Act of 2011. Heavenly Mountain Resort (Heavenly) proposes to improve year-round, recreation opportunities within the developed portions of the ski area on National Forest System lands using existing facilities and infrastructure to meet the expanding needs and expectations of visitors to Lake Tahoe, better support the year-round local economy of the South Lake Tahoe area, and connect a diverse group of visitors to our national forest with recreation and educational opportunities to further inspire passion and excitement for the outdoors. The summer activities are designed to suit a wide range of visitors from the casual sightseer to the avid mountain adventurer. A key component of the project proposal is a unique and comprehensive environmental education and interpretive component that is woven into the entire experience. This project is a joint project between the USDA Forest Service, Lake Tahoe Basin Management Unit (Forest Service), Tahoe Regional Planning Agency (TRPA), and California Regional Water Quality Control Board, Lahontan Region (Lahontan). The joint environmental document will use information taken where appropriate from the Heavenly Mountain Resort Master Plan Amendment Final EIR/EIS/EIS certified in 2007. The project is located at Heavenly within El Dorado and Alpine Counties, CA and Douglas County, NV, adjacent to South Lake Tahoe. The TRPA Governing Board will use the EIS/EIS/IS when they consider the amendment of the existing Ski Area Master Plan to add the Epic Discovery projects.

DATES: Submit comments on or before December 20, 2013.

The meeting dates are: Wednesday, December 4, 2013, 9:30 a.m., Stateline, NV; and Wednesday, December 18, 2013, 5:30 p.m. to 7:30 p.m., South Lake Tahoe, CA.

ADDRESSES: Please send your written comments to: Heavenly Epic Discovery Project, TRPA, P.O. Box 5310, Stateline, NV 89449, Attention: David Landry, or email: dlandry@trpa.org.

The meeting locations are:

1. TRPA Advisory Planning Commission Hearing, TRPA Board Rooms, 128 Market Street, Stateline, NV 89449.

2. Forest Service, Lake Tahoe Basin Management Unit, 35 College Drive, South Lake Tahoe, CA 96150.

FOR FURTHER INFORMATION CONTACT: Matt Dickinson, NEPA Contract Coordinator, USDA Forest Service Lake Tahoe Basin Management Unit, at (530) 543-2769 or mattdickinson@fs.fed.us.

SUPPLEMENTARY INFORMATION: Purpose And Need for Action—As provided for in the Ski Area Recreational Opportunity Enhancement Act of 2011, Heavenly proposes to improve year-round recreation opportunities within the developed portions of the ski area on National Forest System lands using existing facilities and infrastructure to meet the expanding needs and expectations of visitors to Lake Tahoe, better support the year-round local economy in South Lake Tahoe area, connect a diverse group of visitors to our national forest with recreation and educational opportunities to further inspire passion and excitement for the outdoors.

Proposed Action—Located at the top of the Heavenly Gondola, Adventure Peak opened in the 2000/01 ski season and is the focus of Heavenly's non-skiing and family-oriented activities. In 2007, the Master Development Plan was amended to add more non-skiing activities across a wide area of the upper mountain, including the Adventure Peak area. The Epic Discovery proposal is consistent with and further refines the intent of the 2007 MDP and responds to visitor preferences and changes in sport technology. Since the creation of Adventure Peak, Heavenly has discovered that visitors to Lake Tahoe are increasingly seeking fun, adventurous outdoor activities in a readily accessible environment. This extends to the winter, summer and shoulder seasons. Today, Adventure Peak represents an important component of the recreational activities at Heavenly, and provides visitors with a unique opportunity to access and explore the National Forest System lands of the Lake Tahoe Basin.

Adventure Peak will continue to serve as the primary access portal and hub for most of the proposed Epic Discovery activities. However, the Project will extend activities beyond Adventure Peak to provide natural resource-based recreation in the East Peak Lake Basin to the east and the Sky Meadows Basin to the west. All three activity centers will be linked by a combination of ski lifts, hiking trails, zip line or similar conveyances, and summer roads for the visitors' enjoyment and convenience.

The Forest Service will review and consider for decision certain activities contained in the proposal that lie outside of the Lake Tahoe Region (Carson River watershed), and are, therefore, not subject to the review and action by the Tahoe Regional Planning Agency. Similarly, the Tahoe Regional Planning Agency will review and consider for decision one proposed activity (the Forest Flyer Alpine Coaster), not currently accepted for review and decision by the Forest Service.

The following specific projects are proposed to help Heavenly fulfill its objective of making the resort a more diverse and encompassing year-round facility capable of meeting the seasonal needs of its guests.

• Mid Station Zipline Canopy Tour—Top of Gondola/Adventure Peak Area, An interpretive zipline canopy tour will be implemented in the area between the gondola mid-station and the top station to the east of the gondola alignment.

• Sky Cycle Canopy Tour—Top of Gondola/Adventure Peak Area, An aerial activity known as the Sky Cycle Canopy Tour will be implemented in an area between the gondola top station and the gondola mid-station to the west of the gondola alignment. It will allow visitors the opportunity to traverse the area by pedaling individual bicycle-like devices that are suspended from a cable in the air.

• Forest Flyer Alpine Coaster—Top of Gondola/Adventure Peak Area, The Forest Flyer Alpine Coaster is an activity that allows users on individual sleds to descend on a raised track through the forest and natural rock formations. The Forest Flyer is proposed to be located a short distance to the north and west of the existing tubing lift.

• Infill Activities—Top of Gondola/Adventure Peak Area, A number of smaller individual activities will be sited in and around the existing and proposed activities to infill between the larger activities and create a critical mass of activities. The infill activities include interpretive trails, interactions with interpretive specialists, disc golf, a smaller-scaled zipline or ropes course, gold/gem panning, a mountain bike skills park and bouldering-type activities for children.

• Mountain Bike Park—East Peak Lake Basin, A new mountain bike park will be located in the East Peak Basin area. It will be lift-served and utilize the Comet Express and the Big Easy lifts. The park will include a combination of existing summer roads and new single-track type trails. It will be approximately 9-10 miles in total length. New trails will be four feet wide with a one-foot wide shoulder on either side for a total cross-section width of six feet.

• East Peak Zipline Canopy Tour—East Peak Lake Basin, A multi-stage guided zipline canopy tour will begin near the top of the Big Easy lift and end with a zip over East Peak Lake near the base of the Dipper Express lift. It will generally traverse the hillside between Von Schmidt's Trail and the East Peak Lodge and Lake.

• East Peak Lake Water Activities—East Peak Lake Basin, Water-oriented activities on and around the existing East Peak reservoir will include kayaking, canoeing, other small boats without engines and fishing.

• Interpretive Activities at East Peak Lodge—East Peak Lake Basin, The existing East Peak Lodge and Deck will be seasonally converted into an interpretive education center. It will continue to provide restrooms, First Aid and food and beverage services. No other physical modifications to the lodge or deck are planned.

• East Peak Lodge Hiking Trail—East Peak Lake Basin, A new segment of hiking trail will be implemented that connects the Top of the Gondola area with East Peak Lodge. It will allow visitors the opportunity to hike back and forth between the two activity centers. It will be built to Forest Service trail standards.

• Sky Meadows Zipline Canopy Tour—Sky Meadows Basin, A multi-stage guided zipline canopy tour will begin near the top of the Tamarack Express lift and end near the base of Sky Express lift. It will generally traverse the hillside known as the Ski Ways. It will be similar in nature to the Mid-Station Zipline Canopy Tour, however, it will take advantage of a different landscape type and slope condition to provide a uniquely different experience for users. It will consist of a series of canopy-level ziplines between platforms constructed in and around existing trees or using a pre-fabricated steel pole if a suitable tree does not exist in the vicinity.

• Sky Meadows Ropes Course—Sky Meadows Basin, A self-guided ropes course consisting of a series a series of platforms and rope walkways/bridges will be located between Sky Deck and the base of the Sky Express lift. It will incorporate existing mature trees into the layout. Where a suitable tree is not available along the route to support a landing platform, individual steel or wooden columns may be installed to support the platform.

• Ridge Run Lookout Tower and Observation Deck—Sky Meadows Basin, Develop a new observation tower near the existing Ridge Run Overlook. It will resemble a historic Forest Service Fire Lookout Tower and used for scenic views and interpretive education regarding the Forest Service's historic and modern role in managing the forests, including fire. The tower will be approximately 400-500 square feet in area and a maximum of 25-30 feet in height and will offer views of High Meadows and Free! Peak as well as Lake Tahoe.

• Interpretive Activities at Sky Deck—Sky Meadows Basin, The existing Sky Deck facility will provide a small interpretive education center, restrooms, First Aid and food and beverage facility. The existing facility will be seasonally modified to provide information and exhibits. No other physical modifications to the lodge or deck are necessary.

• Mountain Excursion Tour—Top of Gondola/Adventure Peak Area, East Peak Lake Basin, and Sky Meadows Basin, A Mountain Excursion Tour will connect the three activity centers and will offer guided tours to various locations around the upper mountain. It will consist of Heavenly operated vehicles that will make continuous loops to pick up and drop off visitors at each center. They are intended to provide an enjoyable connection between the centers in a vehicle that is appropriate for mountain travel.

• Connecting Hiking Trails Between Activities—Connecting hiking trails between the activities will be developed to facilitate safe and efficient movement by visitors between the activities. The trails will be laid out in the field and constructed consistent with Forest Service trail standards for this type of use. Interpretive opportunities along the trails will be included in specific locations.

• Mountain Bike Trail Connectors—Two separate mountain bike connections are planned. They will be free of charge and open to the general public as key connections to the larger network of trails in and around Heavenly and the surrounding public lands. The first trail connection is intended to connect the East Peak Mountain Bike Park to the Tahoe Rim Trail. The second trail connection is intended to connect the mountain to Heavenly Village.

• Emergency Gondola Snow Cat Evacuation Route—Gondola Alignment, In order to safely evacuate the gondola during emergency situations, Heavenly proposes to selectively clear trees at a limited number of strategic access points located from the Gondola Mid-Station down along the gondola line for emergency snow cat access. The access route will only be used in times of operational emergencies and will not be used on a regular basis.

Maps and a more specific project description can be found on the LTBMU Web site at: http://www.fs.usda.gov/ltbmu.

Possible Alternatives—In order to address substantive issues identified during scoping, project alternatives may be considered and developed by lead agency staff, following completion of the public scoping period. If necessary, the alternatives shall fulfill the identified purpose & need for action while addressing one or more significant issues related to the proposed project.

Preliminary Issues/Potential Environmental Effects—Potential environmental effects and impacts will be explored during project scoping and during preparation of the EIS/EIS/IS. In addition to the potential environmental effects outlined below, the EIS/EIS/IS will analyze the full range of resource topics required by the lead agencies (e.g., noise, land use), cumulative impacts, and attainment of the TRPA Environmental Threshold Carrying Capacities.

Cumulative Watershed Effects/Water Quality. The EIS/EIS/IS will evaluate potential water quality impacts associated with the proposed projects that focus on Heavenly Valley Creek where a TMDL is in place for suspended sediment and Daggett Creek watersheds where a majority of the projects are sited.

Biological Resources. The EIS/EIS/IS will evaluate potential impacts to sensitive plant and wildlife species (e.g., American marten, Tahoe draba, Whitebark pine) known to occupy habitat within the Heavenly special use permit boundary. The evaluation will also address potential effects to migratory birds, noxious weeds/invasive species, and Forest Service management indicator species.

Scenic Resources. The EIS/EIS/IS will evaluate potential impacts to designated TRPA and Forest Service scenic resources and from viewpoints within adjacent recreational sites (e.g., Van Sickle State Park).

Transportation and Parking. Using trip generation methodology developed for the Project, the EIS/EIS/IS will evaluate potential impacts to US Highway 50, local roadways and intersections during peak hour traffic conditions. The analysis will discuss the Project's parking needs and identify strategies to accommodate new demand.

Air Quality and Climate Change. Using results from the transportation analysis, the EIS/EIS/IS will evaluate potential impacts to applicable air quality standards and greenhouse gas emissions.

Recreation. The EIS/EIS/IS will evaluate potential impacts to existing recreation resources that may occur from the expansion of summer uses at Heavenly. Specifically, the analysis will identify whether the Project may affect recreational quality and opportunities (including changes to person at one time capacity) available on National Forest System lands.

Scoping Process

This NOP/NOI initiates the scoping process, which guides the development of the EIS/EIS/IS. It is important that reviewers provide their comments at such times and in such a manner that they are useful in the lead agency's preparation of this EIS/EIS/IS. Therefore, comments should be provided prior to the close of the comment period and should clearly articulate the reviewer's concerns and contentions.

Comments received in response to this solicitation, including names and addresses of those who comment, will be part of the public record for this proposed action. However, comments submitted anonymously will also be accepted and considered. If applicable, responses should include the name of a contact person at your agency or organization.

Comments concerning the scope of the analysis must be received by December 20, 2013. The draft EIS/EIS/IS is expected in August 2014 and the final EIS/EIS/IS in January 2015. Two public scoping meetings are being held to provide you with an opportunity to learn more about the proposed action and to express oral comments about the content of the EIS/EIS/IS, in addition to providing opportunity to submit written comments. The scalping meetings will be held at the times and locations listed in the DATES and ADDRESSES section above.

This project will follow the new objection procedures as directed by 36 CFR 218. The objection process provides an opportunity for members of the public who have participated in opportunities for public participation provided throughout the planning process to have any unresolved concerns receive an independent review by the Forest Service prior to a final decision being made by the responsible official. Only those who provided specific written comments during opportunities for public comment are eligible to file an objection.

Dated: November 12, 2013.
Jeff Marsolais,
Deputy Forest Supervisor, Lake Tahoe Basin Management Unit.

[FR Doc. 2013-27495 Filed 11-18-13; 8:45 am]

BILLING CODE 3410-11-M